DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Bureau of Primary Health Care (BPHC) Uniform Data System (OMB No. 0915-0193)—Extension

The Uniform Data System (UDS) contains the annual reporting requirements for the cluster of primary care grantees funded by the Bureau of Primary Health Care (BPHC), Health Resources and Services Administration (HRSA). The UDS is a reporting requirement for grantees of the Consolidated Health Center Program (the Program), which provides support to community health centers, migrant health centers, health care for the homeless centers, public housing primary care centers, and other grantees under the Program's authorizing statute (section 330 of the Public Health Service Act, as amended).

The Bureau collects data in the UDS which is used to ensure compliance with legislative mandates and to report to Congress and policymakers on program accomplishments. To meet these objectives, BPHC requires a core set of data collected annually that is appropriate for monitoring and evaluating performance and reporting on annual trends.

Estimates of annualized reporting burden are as follows:

Type of report | Number of respondents | Responses per respondent | Total responses | Hours per response | Total burden hours
Universal Report | 920 | 1 | 920 | 27 | 24,840
Grant Report | 125 | 1 | 125 | 18 | 2,250
Total | 920 |  | 1045 |  | 27,090

Written comments and recommendations concerning the proposed information collection should be sent within 30 days of this notice to: John Kraemer, Human Resources and Housing Branch, Office of Management and Budget, New Executive Office Building, Room 10235, Washington, DC 20503.

Dated: February 8, 2005.
Steven A. Pelovitz,
Associate Administrator for Administration and Financial Management.

[FR Doc. 05-2818 Filed 2-14-05; 8:45 am]

BILLING CODE 4165-15-P